ENVIRONMENTAL PROTECTION AGENCY

[Docket ID Numbers EPA-HQ-OECA-2007-0032 to 0035, 0043 to 0065 and 0125 to 0128; FRL-8285-8]

Agency Information Collection Activities: Request for Comments on Thirty-One Proposed Information Collection Requests (ICRs)

AGENCY: Environmental Protection Agency (EPA).

ACTION: Notice.

SUMMARY: In compliance with the Paperwork Reduction Act (44 U.S.C. 3501 et seq.), this document announces that EPA is planning to submit the following thirty-one existing, approved, continuing Information Collection Requests (ICR) to the Office of Management and Budget (OMB) for the purpose of renewing the ICRs. Before submitting the ICRs to OMB for review and approval, EPA is soliciting comments on specific aspects of the information collections as described under SUPPLEMENTARY INFORMATION.

DATES: Comments must be submitted on or before May 8, 2007.

ADDRESSES: Comments may be submitted electronically, by mail, or through hand delivery/courier service. Follow the detailed instructions as provided under SUPPLEMENTARY INFORMATION, section A.

FOR FURTHER INFORMATION CONTACT: The contact individuals for each ICR are listed under SUPPLEMENTARY INFORMATION, section II. C.

SUPPLEMENTARY INFORMATION:

A. How Can I Access the Docket and/or Submit Comments?

1. Docket Access Instructions

EPA has established a public docket for the ICRs listed in the SUPPLEMENTARY INFORMATION, section II. B. The docket is available for online viewing at http://www.regulations.gov, or in person viewing at the Enforcement and Compliance Docket and Information Center (ECDIC), in the EPA Docket Center (EPA/DC), EPA West, Room 3334, 1301 Constitution Avenue, NW., Washington, DC The EPA/DC Public Reading Room is open from 8 a.m. to 4:30 p.m., Monday through Friday, excluding legal holidays. The telephone number for the Reading Room is (202) 566-1744, and the telephone number for the Enforcement and Compliance Docket and Information Center (ECDIC) docket is (202) 566-1752.

Use http://www.regulations.gov to obtain a copy of the draft collection of information, submit or view public comments, access the index listing of the contents of the docket, and to access those documents in the public docket that are available electronically. When in the system, select “search,” then key in the docket ID number identified in this document.

2. Instructions for Submitting Comments

Submit your comments by one of the following methods:

1. Electronic Submission: Access http://www.regulations.gov and follow the on-line instructions for submitting comments.

2. E-mail: docket.oeca@epa.gov.

3. Fax: (202) 566-1511.

4. Mail: Enforcement and Compliance Docket and Information Center (ECDIC), Environmental Protection Agency, EPA Docket Center (EPA/DC), Mailcode: 2201T, 1200 Pennsylvania Avenue, NW., Washington, DC 20460.

5. Hand Delivery: Enforcement and Compliance Docket and Information Center (ECDIC), Environmental Protection Agency, EPA Docket Center (EPA/DC), EPA West, Room 3334, 1301 Constitution Avenue, NW., Washington, DC. The EPA Docket Center is open from 8:30 a.m. to 4:30 p.m., Monday through Friday, excluding legal holidays. Deliveries are only accepted during the Docket Center's normal hours of operation, and special arrangements should be made for deliveries of boxed information.

Direct your comments to the specific docket listed in SUPPLEMENTARY INFORMATION, section II. B, and reference the OMB Control Number for the ICR. It is EPA's policy that all comments received will be included in the public docket without change and may be made available online at http://www.regulations.gov, including any personal information provided, unless the comment includes information claimed to be Confidential Business Information (CBI) or other information whose disclosure is restricted by statute. Do not submit information that you consider to be CBI or otherwise protected through www.regulations.gov or e-mail. The http://www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM that you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

B. What information is EPA particularly interested in?

Pursuant to section 3506(c)(2)(A) of the Paperwork Reduction Act (PRA), EPA is soliciting comments and information to enable it to:

(1) Evaluate whether the proposed collections of information are necessary for the proper performance of the functions of the Agency, including whether the information will have practical utility.

(2) Evaluate the accuracy of the Agency's estimates of the burdens of the proposed collections of information.

(3) Enhance the quality, utility, and clarity of the information to be collected.

(4) Minimize the burden of the collections of information on those who are to respond, including the use of appropriate automated or electronic collection technologies or other forms of information technology, e.g., permitting electronic submission of responses.

C. What should I consider when I prepare my comments for EPA?

You may find the following suggestions helpful for preparing comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

II. ICRs to Be Renewed

A. For All ICRs

The Agency computed the burden for each of the recordkeeping and reporting requirements applicable to the industry for the currently approved ICRs listed in this notice. Where applicable, the Agency identified specific tasks and made assumptions, while being consistent with the concept of the PRA.

Burden means the total time, effort, or financial resources expended by persons to generate, maintain, retain, or disclose or provide information to or for a Federal agency. This includes the time needed to review instructions to; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The listed ICRs address Clean Air Act information collection requirements in standards (i.e., regulations) which have mandatory recordkeeping and reporting requirements. Records collected under the New Source Performance Standards (NSPS) must be retained by the owner or operator for at least two years and the records collected under the National Emission Standards for Hazardous Air Pollutants (NESHAP) must be retained by the owner or operator for at least five years. In general, the required collections consist of emissions data and other information deemed not to be private.

In the absence of such information collection requirements, enforcement personnel would be unable to determine whether the standards are being met on a continuous basis as required by the Clean Air Act.

An Agency may not conduct or sponsor, and a person is not required to respond to, a collection of information, unless the Agency displays a currently valid OMB control number. The OMB control numbers for EPA's regulations under Title 40 of the Code of Federal Regulations are published in the Federal Register, or on the related collection instrument or form. The display of OMB control numbers for certain EPA regulations is consolidated at 40 CFR part 9.

B. What information collection activity or ICR does this apply to?

In compliance with the Paperwork Reduction Act (44 U.S.C. 3501 et seq.), this notice announces that EPA is planning to submit the following thirty-one continuing Information Collection Requests (ICR) to the Office of Management and Budget (OMB):

(1) Docket ID Number: EPA-HQ-OECA-2007-0043

Title: NSPS for Electric Utility Steam Generating Units (40 CFR Part 60, Subpart Da).

ICR Numbers: EPA ICR Number 1053.09, OMB Control Number 2060-0023.

ICR Status: This ICR is scheduled to expire on October 31, 2007.

(2) Docket ID Number: EPA-HQ-OECA-2007-0044

Title: NSPS for VOC Emissions from Petroleum Refinery Wastewater System (40 CFR Part 60, Subpart QQQ).

ICR Numbers: EPA ICR Number 1136.09, OMB Control Number 2060-0172.

ICR Status: This ICR is scheduled to expire on October 31, 2007.

(3) Docket ID Number: EPA-HQ-OECA-2007-0045

Title: NSPS for Phosphate Rock Plants (40 CFR Part 60, Subpart NN).

ICR Numbers: EPA ICR Number 1078.08, OMB Control Number 2060-0111.

ICR Status: This ICR is scheduled to expire on November 30, 2007.

(4) Docket Number: EPA-HQ-OECA-2007-0046

Title: NSPS for Small Industrial-Commercial-Institutional Steam Generating Units (40 CFR Part 60, Subpart Dc).

ICR Numbers: EPA ICR Number 1564.07, OMB Control Number 2060-0202.

ICR Status: This ICR is scheduled to expire on November 30, 2007.

(5) Docket Number: EPA-HQ-OECA-2007-0125

Title: NSPS for Rubber Tire Manufacturing (40 CFR Part 60, Subpart BBB).

ICR Numbers: EPA ICR Number 1158.09, OMB Control Number 2060-0156.

ICR Status: This ICR is scheduled to expire on November 11, 2007.

(6) Docket Number: EPA-HQ-OECA-2007-0047

Title: NSPS for Onshore Natural Gas Processing Plants (40 CFR Part 60, Subparts KKK & LLL).

ICR Numbers: EPA ICR Number 1086.08, OMB Control Number 2060-0120.

ICR Status: This ICR is scheduled to expire on December 31, 2007.

(7) Docket Number: EPA-HQ-OECA-2007-0048

Title: NESHAP for Beryllium (40 CFR Part 61, Subpart C).

ICR Numbers: EPA ICR Number 0193.09, OMB Control Number 2060-0092.

ICR Status: This ICR is scheduled to expire on December 31, 2007.

(8) Docket Number: EPA-HQ-OECA-2007-0049

Title: NSPS for Hospital/Medical/Infectious Waste Incinerators (40 CFR Part 60, Subpart Ec).

ICR Numbers: EPA ICR Number 1730.05, OMB Control Number 2060-0363.

ICR Status: This ICR is scheduled to expire on December 31, 2007.

(9) Docket Number: EPA-HQ-OECA-2007-0050

Title: NESHAP for Benzene Emissions from Coke By-Product Recovery Plants (40 CFR Part 61, Subpart L).

ICR Numbers: EPA ICR Number 1080.12, OMB Control Number 2060-0185.

ICR Status: This ICR is scheduled to expire on December 31, 2007.

(10) Docket Number: EPA-HQ-OECA-2007-0051

Title: NSPS for Asphalt Processing and Roofing Manufacture (40 CFR Part 60, Subpart UU).

ICR Numbers: EPA ICR Number 0661.09, OMB Control Number 2060-0002.

ICR Status: This ICR is scheduled to expire on January 31, 2008.

(11) Docket Number: EPA-HQ-OECA-2007-0032

Title: NSPS for Portland Cement Plants (40 CFR Part 60, Subpart F).

ICR Numbers: EPA ICR Number 1051.10, OMB Control Number 2060-0025.

ICR Status: This ICR is scheduled to expire on January 31, 2008.

(12) Docket Number: EPA-HQ-OECA-2007-0052

Title: NESHAP for Epoxy Resin and Non-Nylon Polyamide Production (40 CFR Part 63, Subpart W).

ICR Numbers: EPA ICR Number 1681.06, OMB Control Number 2060-0290.

ICR Status: This ICR is scheduled to expire on February 29, 2008.

(13) Docket Number: EPA-HQ-OECA-2007-0127

Title: NESHAP for Primary Aluminum Reduction Plants (40 CFR Part 63, Subpart L).

ICR Numbers: EPA ICR Number 1767.05, OMB Control Number 2060-0360.

ICR Status: This ICR is scheduled to expire on February 29, 2008.

(14) Docket Number: EPA-HQ-OECA-2007-0033

Title: NSPS for Polymeric Coating of Supporting Substrates Facilities (40 CFR Part 60, Subpart VVV).

ICR Numbers: EPA ICR Number 1284.08, OMB Control Number 2060-0181.

ICR Status: This ICR is scheduled to expire on March 31, 2008.

(15) Docket Number: EPA-HQ-OECA-2007-0053

Title: NESHAP for Beryllium Rocket Motor Fuel Firing (40 CFR Part 61, Subpart D).

ICR Numbers: EPA ICR Number 1125.05, OMB Control Number 2060-0394.

ICR Status: This ICR is scheduled to expire on April 30, 2008.

(16) Docket Number: EPA-HQ-OECA-2007-0054

Title: NESHAP for Vinyl Chloride (40 CFR Part 61, Subpart F).

ICR Numbers: EPA ICR Number 0186.11, OMB Control Number 2060-0071.

ICR Status: This ICR is scheduled to expire on April 30, 2008.

(17) Docket Number: EPA-HQ-OECA-2007-0034

Title: NESHAP for Pulp and Paper Production (40 CFR Part 63, Subpart S).

ICR Numbers: EPA ICR Number 1657.06, OMB Control Number 2060-0387.

ICR Status: This ICR is scheduled to expire on April 30, 2008.

(18) Docket Number: EPA-HQ-OECA-2007-0035

Title: NESHAP for Chemical Recovery Combustion Sources at Kraft, Soda, Sulfite, and Stand-Alone Semichemical Pulp Mills (40 CFR Part 63, Subpart MM).

ICR Numbers: EPA ICR Number 1805.05, OMB Control Number 2060-0377.

ICR Status: This ICR is scheduled to expire on April 30, 2008.

(19) Docket Number: EPA-HQ-OECA-2007-0055

Title: Standards of Performance for New and Existing Stationary.

Sources: Utility Steam Generating Units (40 CFR Part 60, Subparts Da and HHHH).

ICR Numbers: EPA ICR Number 2137.03, OMB Control Number 2060-0567.

ICR Status: This ICR is scheduled to expire on April 30, 2008.

(20) Docket Number: EPA-HQ-OECA-2007-0126

Title: NESHAP for Petroleum Refineries (40 CFR Part 63, Subpart CC).

ICR Numbers: EPA ICR Number 1692.06, OMB Control Number 2060-0340.

ICR Status: This ICR is scheduled to expire on April 30, 2008.

(21) Docket Number: EPA-HQ-OECA-2007-0056

Title: NSPS for Municipal Waste Combustors (40 CFR Part 60, Subparts Ea and Eb).

ICR Numbers: EPA ICR Number 1506.11, OMB Control Number 2060-0210.

ICR Status: This ICR is scheduled to expire on April 30, 2008.

(22) Docket Number: EPA-HQ-OECA-2007-0057

Title: NESHAP for Pesticide Active Ingredient Production (40 CFR Part 63, Subpart MMM).

ICR Numbers: EPA ICR Number 1807.04, OMB Control Number 2060-0370.

ICR Status: This ICR is scheduled to expire on June 30, 2008.

(23) Docket Number: EPA-HQ-OECA-2007-0058

Title: NESHAP for Marine Tank Vessel Loading Operations (40 CFR Part 63, Subpart Y).

ICR Numbers: EPA ICR Number 1679.06, OMB Control Number 2060-0289.

ICR Status: This ICR is scheduled to expire on July 31, 2008.

(24) Docket Number: EPA-HQ-OECA-2007-0059

Title: NESHAP for Solvent Extraction for Vegetable Oil Production (40 CFR Part 63, Subpart GGGG).

ICR Numbers: EPA ICR Number 1947.04, OMB Control Number 2060-0471.

ICR Status: This ICR is scheduled to expire on July 31, 2008.

(25) Docket Number: EPA-HQ-OECA-2007-0060

Title: NESHAP for Engine Test Cells/Stands (40 CFR Part 63, Subpart PPPPP).

ICR Numbers: EPA ICR Number 2066.04, OMB Control Number 2060-0483.

ICR Status: This ICR is scheduled to expire on July 31, 2008.

(26) Docket Number: EPA-HQ-OECA-2007-0061

Title: NESHAP for Friction Materials Manufacturing (40 CFR Part 63, QQQQQ).

ICR Numbers: EPA ICR Number 2025.04, OMB Control Number 2060-0481.

ICR Status: This ICR is scheduled to expire on July 31, 2008.

(27) Docket Number: EPA-HQ-OECA-2007-0062

Title: NESHAP for Cellulose Products Manufacturing (40 CFR Part 63, Subpart UUUU).

ICR Numbers: EPA ICR Number 1974.05, OMB Control Number 2060-0488.

ICR Status: This ICR is scheduled to expire on July 31, 2008.

(28) Docket Number: EPA-HQ-OECA-2007-0128

Title: NESHAP for Ferroalloys Production: Ferromanganese and Silconmanganese (40 CFR Part 63, Subpart XXX).

ICR Numbers: EPA ICR Number 1831.04, OMB Control Number 2060-0391.

ICR Status: This ICR is scheduled to expire on September 30, 2008.

(29) Docket Number: EPA-HQ-OECA-2007-0063

Title: NESHAP for Primary Copper Smelters (40 CFR Part 63, Subpart QQQ).

ICR Numbers: EPA ICR Number 1850.05, OMB Control Number 2060-0476.

ICR Status: This ICR is scheduled to expire on September 30, 2008.

(30) Docket Number: EPA-HQ-OECA-2007-0064

Title: NESHAP for Leather Finishing Operations (40 CFR Part 63, Subpart TTTT).

ICR Numbers: EPA ICR Number 1985.04, OMB Control Number 2060-0478.

ICR Status: This ICR is scheduled to expire on September 30, 2008.

(31) Docket Number: EPA-HQ-OECA-2007-0065

Title: NESHAP for Metal Coil Surface Coating Plants (40 CFR Part 63, Subpart SSSS).

ICR Numbers: EPA ICR Number 1957.05, OMB Control Number 2060-0487.

ICR Status: This ICR is scheduled to expire on September 30, 2008.

C. Contact Individuals for ICRs

(1) NSPS for Electric Utility Steam Generating Units (40 CFR Part 60, Subpart Da); Learia Williams of the Office of Compliance at (202) 564-4113; or via e-mail to: williams.learia@epa.gov; EPA ICR Number 1053.09; OMB Control Number 2060-0023; expiration date October 31, 2007.

(2) NSPS for VOC Emissions From Petroleum Refinery Wastewater System (40 CFR Part 60, Subpart QQQ); Learia Williams of the Office of Compliance at (202) 564-4113; or via e-mail to: williams.learia@epa.gov; EPA ICR Number 1136.09; OMB Control Number 2060-0172; expiration date October 31, 2007.

(3) NSPS for Phosphate Rock Plants (40 CFR Part 60, Subpart NN); Learia Williams of the Office of Compliance at (202) 564-4113; or via e-mail to: williams.learia@epa.gov; EPA ICR Number 1078.08; OMB Control Number 2060-0111; expiration date November 30, 2007.

(4) NSPS for Small Industrial-Commercial-Institutional Steam Generating Units (40 CFR Part 60, Subpart Dc); Learia Williams of the Office of Compliance at (202) 564-4113; or via e-mail to: williams.learia@epa.gov; EPA ICR Number 1564.07; OMB Control Number 2060-0202; expiration date November 30, 2007.

(5) NSPS for Rubber Tire Manufacturing (40 CFR Part 60, Subpart BBB); contact María Malavé of the Office of Compliance at (202) 564-7027 or via e-mail to: malave.maria@epa.gov; EPA ICR Number 1158.09; OMB Control Number 2060-0156; expiration date November 11, 2007.

(6) NSPS for Onshore Natural Gas Processing Plants (40 CFR Part 60, Subparts KKK & LLL); Learia Williams of the Office of Compliance at (202) 564-4113; or via e-mail to: williams.learia@epa.gov; EPA ICR Number 1086.08; OMB Control Number 2060-0120; expiration date December 31, 2007.

(7) NESHAP for Beryllium (40 CFR Part 61, Subpart C); Learia Williams of the Office of Compliance at (202) 564-4113; or via e-mail to: williams.learia@epa.gov; EPA ICR Number 0193.09; OMB Control Number 2060-0092; expiration date December 31, 2007.

(8) NSPS for Hospital/Medical/Infectious Waste Incinerators (40 CFR Part 60, Subpart Ec); Learia Williams of the Office of Compliance at (202) 564-4113; or via e-mail to: williams.learia@epa.gov; EPA ICR Number 1730.05; OMB Control Number 2060-0363; expiration date December 31, 2007.

(9) NESHAP for Benzene Emissions From Coke By-Product Recovery Plants (40 CFR Part 61, Subpart L); Learia Williams of the Office of Compliance at (202) 564-4113; or via e-mail to: williams.learia@epa.gov; EPA ICR Number 1080.12; OMB Control Number 2060-0185; expiration date December 31, 2007.

(10) NSPS for Asphalt Processing and Roofing Manufacture (40 CFR Part 60, Subpart UU); Learia Williams of the Office of Compliance at (202) 564-4113; or via e-mail to: williams.learia@epa.gov; EPA ICR Number 0661.09; OMB Control Number 2060-0002; expiration date January 31, 2008.

(11) NSPS for Portland Cement Plants (40 CFR Part 60, Subpart F); Leonard Lazarus of the Office of Compliance at (202) 564-6369 or via e-mail to: lazarus.leonard@epa.gov; EPA ICR Number 1051.10; OMB Control Number 2060-0025; expiration date January 31, 2008.

(12) NESHAP for Epoxy Resin and Non-Nylon Polyamide Production (40 CFR Part 63, Subpart W); Learia Williams of the Office of Compliance at (202) 564-4113; or via e-mail to: williams.learia@epa.gov; EPA ICR Number 1681.06; OMB Control Number 2060-0290; expiration date February 29, 2008.

(13) NESHAP for Primary Aluminum Reduction Plants (40 CFR Part 63, Subpart L); contact María Malavé of the Office of Compliance at (202) 564-7027 or via e-mail to: malave.maria@epa.gov; EPA ICR Number 1767.05; OMB Control Number 2060-0360; expiration date February 29, 2008.

(14) NSPS for Polymeric Coating of Supporting Substrates Facilities (40 CFR Part 60, Subpart VVV); Leonard Lazarus of the Office of Compliance at (202) 564-6369 or via e-mail to: lazarus.leonard@epa.gov; EPA ICR Number 1284.08; OMB Control Number 2060-0181; expiration date March 31, 2008.

(15) NESHAP for Beryllium Rocket Motor Fuel Firing (40 CFR Part 61, Subpart D); Learia Williams of the Office of Compliance at (202) 564-4113; or via e-mail to: williams.learia@epa.gov; EPA ICR Number 1125.05; OMB Control Number 2060-0394; expiration date April 30, 2008.

(16) NESHAP for Vinyl Chloride (40 CFR Part 61, Subpart F); Learia Williams of the Office of Compliance at (202) 564-4113; or via e-mail to: williams.learia@epa.gov; EPA ICR Number 0186.11; OMB Control Number 2060-0071; expiration date April 30, 2008.

(17) NESHAP for Pulp and Paper Production (40 CFR Part 63, Subpart S); Leonard Lazarus of the Office of Compliance at (202) 564-6369 or via e-mail to: lazarus.leonard@epa.gov; EPA ICR Number 1657.06; OMB Control Number 2060-0387; expiration date April 30, 2008.

(18) NESHAP for Chemical Recovery Combustion Sources at Kraft, Soda, Sulfite, and Stand-Alone Semichemical Pulp Mills (40 CFR Part 63, Subpart MM); Leonard Lazarus of the Office of Compliance at (202) 564-6369 or via e-mail to: lazarus.leonard@epa.gov; EPA ICR Number 1805.05; OMB Control Number 2060-0377; expiration date April 30, 2008.

(19) Standards of Performance for New and Existing Stationary Sources: Utility Steam Generating Units (40 CFR Part 60, Subparts Da and HHHH); Learia Williams of the Office of Compliance at (202) 564-4113; or via e-mail to: williams.learia@epa.gov; EPA ICR Number 2137.03; OMB Control Number 2060-0567; expiration date April 30, 2008.

(20) NESHAP for Petroleum Refineries (40 CFR Part 63, Subpart CC); contact María Malavé of the Office of Compliance at (202) 564-7027 or via e-mail to: malave.maria@epa.gov; EPA ICR Number 1692.06; OMB Control Number 2060-0340; expiration date April 30, 2008.

(21) NSPS for Municipal Waste Combustors (40 CFR Part 60, Subparts Ea and Eb); Learia Williams of the Office of Compliance at (202) 564-4113; or via e-mail to: williams.learia@epa.gov; EPA ICR Number 1506.11; OMB Control Number 2060-0210; expiration date April 30, 2008.

(22) NESHAP for Pesticide Active Ingredient Production (40 CFR Part 63, Subpart MMM); Learia Williams of the Office of Compliance at (202) 564-4113; or via e-mail to: williams.learia@epa.gov; EPA ICR Number 1807.04; OMB Control Number 2060-0370; expiration date June 30, 2008.

(23) NESHAP for Marine Tank Vessel Loading Operations (40 CFR Part 63, Subpart Y); Learia Williams of the Office of Compliance at (202) 564-4113; or via e-mail to: williams.learia@epa.gov; EPA ICR Number 1679.06; OMB Control Number 2060-0289; expiration date July 31, 2008.

(24) NESHAP for Solvent Extraction for Vegetable Oil Production (40 CFR Part 63, Subpart GGGG); Learia Williams of the Office of Compliance at (202) 564-4113; or via e-mail to: williams.learia@epa.gov; EPA ICR Number 1947.04; OMB Control Number 2060-0471; expiration date July 31, 2008.

(25) NESHAP for Engine Test Cells/Stands (40 CFR Part 63, Subpart PPPPP); Learia Williams of the Office of Compliance at (202) 564-4113; or via e-mail to: williams.learia@epa.gov; EPA ICR Number 2066.04; OMB Control Number 2060-0483; expiration date July 31, 2008.

(26) NESHAP for Friction Materials Manufacturing (40 CFR Part 63, Subpart QQQQQ); Learia Williams of the Office of Compliance at (202) 564-4113; or via e-mail to: williams.learia@epa.gov; EPA ICR Number 2025.04; OMB Control Number 2060-0481; expiration date July 31, 2008.

(27) NESHAP for Cellulose Products Manufacturing (40 CFR Part 63, Subpart UUUU); Learia Williams of the Office of Compliance at (202) 564-4113; or via e-mail to: williams.learia@epa.gov; EPA ICR Number 1974.05; OMB Control Number 2060-0488; expiration date July 31, 2008.

(28) NESHAP for Ferroalloys Production: Ferromanganese and Silconmanganese (40 CFR Part 63, Subpart XXX); contact María Malavé of the Office of Compliance at (202) 564-7027 or via e-mail to: malave.maria@epa.gov; EPA ICR Number 1831.04; OMB Control Number 2060-0391; expiration date September 30, 2008.

(29) NESHAP for Primary Copper Smelters (40 CFR Part 63, Subpart QQQ); Learia Williams of the Office of Compliance at (202) 564-4113; or via e-mail to: williams.learia@epa.gov; EPA ICR Number 1850.05; OMB Control Number 2060-0476; expiration date September 30, 2008.

(30) NESHAP for Leather Finishing Operations (40 CFR Part 63, Subpart TTTT); Learia Williams of the Office of Compliance at (202) 564-4113; or via e-mail to: williams.learia@epa.gov; EPA ICR Number 1985.04; OMB Control Number 2060-0478; expiration date September 30, 2008.

(31) NESHAP for Metal Coil Surface Coating Plants (40 CFR Part 63, Subpart SSSS); Learia Williams of the Office of Compliance at (202) 564-4113; or via e-mail to: williams.learia@epa.gov; EPA ICR Number 1957.05; OMB Control Number 2060-0487; expiration date September 30, 2008.

D. Information for Individual ICRs

(1) NSPS for Electric Utility Steam Generating Units (40 CFR Part 60, Subpart Da), Docket ID Number EPA-HQ-OECA-2007-0043, EPA ICR Number 1053.09, OMB Control Number 2060-0023, expiration date October 31, 2007.

Affected Entities: Entities potentially affected by this action are owners or operators of electric utility steam generating units which are capable of combusting more than 73 megawatts (MW) heat input of fossil fuel that commenced construction, modification, or reconstruction after the date of proposal.

Abstract: The New Source Performance Standards (NSPS) for Electric Utility Steam Generating Units (40 CFR Part 60, Subpart Da) were proposed on September 18, 1978, and promulgated on June 11, 1979.

The affected entities are subject to the General Provisions of NSPS at 40 CFR part 60, subpart A, and any changes, or additions to the General Provisions specified at 40 CFR part 60, subpart Da.

Owners or operators of the affected facilities must make an initial notification, performance tests, periodic reports, and maintain records of the occurrence and duration of any startup, shutdown, or malfunction in the operation of an affected facility, or any period during which the monitoring system is inoperative. Reports are also required semiannually and quarterly.

Burden Statement: The annual public reporting and recordkeeping burden for this collection of information is estimated to average approximately 85 hours per response.

Respondents/Affected Entities: Electric utility steam generating units.

Estimated Number of Respondents: 655.

Frequency of Response: Semiannually, quarterly.

Estimated Total Annual Hour Burden: 133,553.

Estimated Total Annual Cost: $11,860,000, which is comprised of annualized capital/startup costs of $2,200,000 and O&M costs of $9,660,000.

(2) NSPS for VOC Emissions from Petroleum Refinery Wastewater System (40 CFR Part 60, Subpart QQQ), Docket ID Number EPA-HQ-OECA-2007-0044, EPA ICR Number 1136.09, OMB Control Number 2060-0172, expiration date October 31, 2007.

Affected Entities: Entities potentially affected by this action are owners or operators of petroleum refinery wastewater systems which includes individual drain systems, oil-water separators, and aggregate facilities commencing construction, modification or reconstruction after the date of proposal.

Abstract: The New Source Performance Standards (NSPS) for Electric Utility Steam Generating Units (40 CFR Part 60, Subpart QQQ) were proposed on May 4, 1987, and promulgated on November 23, 1988.

The affected entities are subject to the General Provisions of NSPS at 40 CFR part 60, subpart A, and any changes, or additions to the General Provisions specified at 40 CFR part 60, subpart QQQ.

Owners or operators of the affected facilities must make an initial notification, performance tests, periodic reports, and maintain records of the occurrence and duration of any startup, shutdown, or malfunction in the operation of an affected facility, or any period during which the monitoring system is inoperative. Reports are also required semiannually.

Burden Statement: The annual public reporting and recordkeeping burden for this collection of information is estimated to average approximately 34.2 hours per response.

Respondents/Affected Entities: Petroleum refinery wastewater systems.

Estimated Number of Respondents: 135.

Frequency of Response: On occasion and semiannually.

Estimated Total Annual Hour Burden: 9,237.

Estimated Total Annual Cost: $17,600, which is comprised of no annualized capital/startup costs and O&M costs of $17,600.

(3) NSPS for Phosphate Rock Plants (40 CFR Part 60, Subpart NN), Docket ID Number EPA-HQ-OECA-2007-0045, EPA ICR Number 1078.08, OMB Control Number 2060-0111, expiration date November 30, 2007.

Affected Entities: Entities potentially affected by this action are owners or operators of new phosphate rock plants with capacities greater than four tons per hour which includes dryers, calciners, grinders, and ground rock handling and storage facilities that commenced construction, modification or reconstruction after the date of proposal.

Abstract: The New Source Performance Standards (NSPS) for Phosphate Rock Plants (40 CFR Part 60, Subpart NN), were proposed on September 21, 1979, and promulgated on April 16, 1982.

The affected entities are subject to the General Provisions of NSPS at 40 CFR part 60, subpart AA, and any changes, or additions to the General Provisions specified at 40 CFR part 60, subpart NN.

Owners or operators of the affected facilities must make an initial notification, performance tests, periodic reports, and maintain records of the occurrence and duration of any startup, shutdown, or malfunction in the operation of an affected facility, or any period during which the monitoring system is inoperative. Reports are also required semiannually.

Burden Statement: The annual public reporting and recordkeeping burden for this collection of information is estimated to average approximately 55.2 hours per response.

Respondents/Affected Entities: Phosphate rock plants.

Estimated Number of Respondents: 13.

Frequency of Response: Initially and semiannually.

Estimated Total Annual Hour Burden: 1,602.

Estimated Total Annual Cost: $124,000, which is comprised of annualized capital/startup costs of $12,000 and O&M costs of $112,000.

(4) NSPS for Small Industrial-Commercial-Institutional Steam Generating Units (40 CFR Part 60, Subpart Dc), Docket ID Number EPA-HQ-OECA-2007-0046, EPA ICR Number 1564.07, OMB Control Number 2060-0202, expiration date November 30, 2007.

Affected Entities: Entities potentially affected by this action are owners or operators of small industrial-commercial-institutional steam generating units with maximum design heat input capacity of 29 megawatts (MW) (100 million Btu/hr) or less, but greater than or equal to 2.9 MW (10 million Btu/hr), commencing construction, modification, or reconstruction after June 9, 1989.

Abstract: The New Source Performance Standards (NSPS) for Small Industrial-Commercial-Institutional Steam Generating Units (40 CFR Part 60, Subpart Dc) were proposed on June 9, 1989, and promulgated on September 12, 1990.

The affected entities are subject to the General Provisions of NSPS at 40 CFR part 60, subpart A and any changes, or additions to the General Provisions specified at 40 CFR part 60, subpart Dc.

Owners or operators of the affected facilities must make an initial notification, performance tests, periodic reports, and maintain records of the occurrence and duration of any startup, shutdown, or malfunction in the operation of an affected facility, or any period during which the monitoring system is inoperative. Reports are also required semiannually.

Burden Statement: The annual public reporting and recordkeeping burden for this collection of information is estimated to average approximately 287 hours per response.

Respondents/Affected Entities: Small industrial-commercial-institutional steam generating units.

Estimated Number of Respondents: 235.

Frequency of Response: Initially, on occasion and semiannually.

Estimated Total Annual Hour Burden: 156,610.

Estimated Total Annual Cost: $9,446,145, which is comprised of annualized capital/startup costs of $1,491,005 and O&M costs of $7,955,140.

(5) NSPS for Rubber Tire Manufacturing (40 CFR Part 60, Subpart BBB); Docket ID Number EPA-HQ-OECA-2007-0125; EPA ICR Number 1158.09; OMB Control Number 2060-0156; expiration date November 11, 2007.

Affected Entities: Owners and operators of rubber tire manufacturing plants.

Abstract: The New Source Performance Standards (NSPS) for rubber tire manufacturing plants were proposed on January 20, 1983, and promulgated on September 15, 1987. Minor revisions to the standards of performance for the rubber tire manufacturing industry were proposed on February 14, 1989 and promulgated on September 19, 1989. These standards apply to undertread cementing operations, sidewall cementing operations, tread end cementing operations, bead cementing operations, green tire spraying operations, Michelin-A operations, Michelin-B operations, and Michelin-C automatic operations, commencing construction, modification or reconstruction after January 20, 1993.

The affected entities are subject to the General Provisions of the New Source Performance Standards (NSPS) at 40 CFR part 60, subpart A and any changes, or additions to the General Provisions specified at 40 CFR part 60, subpart BBB. Owners or operators of the affected facilities must submit initial notification, performance tests, and periodic reports and results. Owners or operators are also required to maintain records of the occurrence and duration of any startup, shutdown, or malfunction in the operation of an affected facility, or any period during which the monitoring system is inoperative. Semiannual reports are also required.

Burden Statement: The annual public reporting and recordkeeping burden for this collection of information is estimated to average 167 (rounded) hours per response.

Respondents/Affected Entities: Owners and operators of rubber tire manufacturing plants.

Estimated Number of Respondents: 41.

Frequency of Response: Initially, semiannually and annually.

Estimated Total Annual Hour Burden: 13,323 hours.

Estimated Total Annual Cost: $16,000, which is comprised of O&M costs only. There are no annualized capital/startup costs.

(6) NSPS for Onshore Natural Gas Processing Plants (40 CFR Part 60, Subparts KKK & LLL), Docket ID Number EPA-HQ7-OECA-2007-0047, EPA ICR Number 1086.08, OMB Control Number 2060-0120, expiration date December 31, 2007.

Affected Entities: Entities potentially affected by this action are owners or operators of the following affected facilities located at onshore natural gas processing plants: compressors in volatile organic compound (VOC) service or in wet gas service, and the group of all equipment (except compressors) within a process unit, that commended construction, modification or reconstruction after the date of proposal.

Abstract: The New Source Performance Standards (NSPS) for Onshore Natural Gas Processing Plants (40 CFR Part 60, subparts LLL & KKK) were proposed on January 20, 1984, and promulgated on June 24, 1985 for subpart KKK, and October 1, 1985 for LLL.

The affected entities are subject to the General Provisions of NSPS at 40 CFR part 60, subpart A, and any changes, or additions to the General Provisions specified at 40 CFR part 60, Subparts KKK and LLL.

Owners or operators of the affected facilities must make an initial notification, performance tests, periodic reports, and maintain records of the occurrence and duration of any startup, shutdown, or malfunction in the operation of an affected facility, or any period during which the monitoring system is inoperative. Reports are also required semiannually.

Burden Statement: The annual public reporting and recordkeeping burden for this collection of information is estimated to average approximately 91 hours per response.

Respondents/Affected Entities: Onshore natural gas processing plants.

Estimated Number of Respondents: 563.

Frequency of Response: Semiannually, and on occasion.

Estimated Total Annual Hour Burden: 149,174.

Estimated Total Annual Cost: $338,700, which is comprised of annualized capital/startup costs of $219,000 and O&M costs of $119,700.

(7) NESHAP for Beryllium (40 CFR Part 61, Subpart C), Docket ID Number EPA-HQ-OECA-2007-0048, EPA ICR Number 0193.09, OMB Control Number 2060-0092, expiration date December 31, 2007.

Affected Entities: Entities potentially affected by this action are owners or operators of all extraction plants, ceramic plants, foundries, incinerators, and propellant plants which process beryllium ore, beryllium, beryllium oxide, beryllium alloys or beryllium containing waste, also for machine shops which process beryllium, beryllium oxides, or any alloy when such alloy contains more than five percent beryllium by weight.

Abstract: The National Emission Standards for Hazardous Air Pollutants (NESHAP) for Beryllium (40 CFR Part 61, Subpart C) were proposed on December 7, 1971, and promulgated on April 6, 1973.

The affected entities are subject to the General Provisions of NESHAP at 40 CFR part 61, subpart A, and any changes, or additions to the General Provisions specified at 40 CFR part 61, subpart C.

Owners or operators of the affected facilities must make a one-time-only notification including: notification of any physical or operational change to an existing facility, notification of the initial performance test, and performance test measurements and results. Owners or operators are also required to maintain records of the occurrence and duration of any startup, shutdown, or malfunction in the operation of an affected facility, or any period during which the monitoring system is inoperative. Reports are also required on a monthly basis.

Burden Statement: The annual public reporting and recordkeeping burden for this collection of information is estimated to average approximately 16 hours per response.

Respondents/Affected Entities: Beryllium plants.

Estimated Number of Respondents: 33.

Frequency of Response: On occasion and monthly.

Estimated Total Annual Hour Burden: 2,627.

Estimated Total Annual Cost: $35,000, which is comprised of no annualized capital/startup costs and O&M costs of $35,000.

(8) NSPS for Hospital/Medical/Infectious Waste Incinerators (40 CFR Part 60, Subpart Ec), Docket ID Number EPA-HQ-OECA-2007-0049, EPA ICR Number 1730.05, OMB Control Number 2060-0363, expiration date December 31, 2007.

Affected Entities: Entities potentially affected by this action are owners or operators of hospital/medical/infectious waste incinerators for which construction commended after June 20, 1996, or for which modification commenced after the effective date of the NSPS.

Abstract: The New Source Performance Standards (NSPS) for Hospital/Medical/Infectious Waste Incinerators (40 CFR Part 60, Subpart Ec) were promulgated on September 15, 1997.

The affected entities are subject to the General Provisions of NSPS at 40 CFR part 60, subpart A, and any changes, or additions to the General Provisions specified at 40 CFR part 60, subpart Ec.

Owners or operators of the affected facilities must make an initial notification, performance tests, periodic reports, and maintain records of the occurrence and duration of any startup, shutdown, or malfunction in the operation of an affected facility, or any period during which the monitoring system is inoperative. Reports are also required semiannually.

Burden Statement: The annual public reporting and recordkeeping burden for this collection of information is estimated to average approximately 107 hours per response.

Respondents/Affected Entities: Hospital/Medical/Infectious waste incinerators.

Estimated Number of Respondents: 7.

Frequency of Response: Initially, on occasion, semiannually and annually.

Estimated Total Annual Hour Burden: 4,795.

Estimated Total Annual Cost: $22,000, which is comprised of annualized capital/startup costs of $2,000 and O&M costs of $20,000.

(9) NESHAP for Benzene Emissions from Coke By-Product Recovery Plants (40 CFR Part 61, Subpart L), Docket ID Number EPA-HQ-OECA-2007-0050, EPA ICR Number 1080.12, OMB Control Number 2060-0185, expiration date December 31, 2007.

Affected Entities: Entities potentially affected by this action are owners or operators of existing and new facilities that are furnace or foundry coke by-product recovery plants that produce benzene emissions. New facilities include those that commenced construction, modification or reconstruction after the date of these rules.

Abstract: The National Emission Standards for Hazardous Air Pollutants (NESHAP) for Benzene Emissions from Coke By-Product Recovery Plants (40 CFR Part 61, Subpart L) were promulgated on December 15, 1989, and amended February 12, 1999.

The affected entities are subject to the General Provisions of NESHAP at 40 CFR part 61, subpart A, and any changes, or additions to the General Provisions specified at 40 CFR part 61, subpart L.

Owners or operators of the affected facilities must submit initial notifications, performance tests, and periodic reports and results. Owners or operators are also required to maintain records of the occurrence and duration of any startup, shutdown, or malfunction in the operation of an affected facility, or any period during which the monitoring system is inoperative. Reports are also required semiannually.

Burden Statement: The annual public reporting and recordkeeping burden for this collection of information is estimated to average approximately 92 hours per response.

Respondents/Affected Entities: Benzene emissions from coke by-product recovery plants.

Estimated Number of Respondents: 17.

Frequency of Response: On occasion and semiannually.

Estimated Total Annual Hour Burden: 3,138.

Estimated Total Annual Cost: There are no capital/startup or O&M costs associated with this ICR.

(10) NSPS for Asphalt Processing and Roofing Manufacture (40 CFR Part 60, Subpart UU), Docket ID Number EPA-HQ-OECA-2007-0051, EPA ICR Number 0661.09, OMB Control Number 2060-0002, expiration date January 31, 2008.

Affected Entities: Entities potentially affected by this action are owners or operators of asphalt processing and roofing manufacture. These standards apply to each saturator and each asphalt storage facility at asphalt roofing plants, and to each asphalt storage tank and each blowing still at asphalt processing plants, petroleum refineries, and asphalt roofing plants. New facilities include those that commenced construction, modification or reconstruction after the date of proposal.

Abstract: The New Source Performance Standards (NSPS) for Asphalt Processing and Roofing Manufacture (40 CFR Part 60, Subpart UU) were proposed on November 18, 1980, amended on May 26, 1981, and promulgated on August 6, 1982.

The affected entities are subject to the General Provisions of NSPS at 40 CFR part 60, subpart A, and any changes, or additions to the General Provisions specified at 40 CFR part 60, subpart UU.

Owners or operators of the affected facilities must make an initial notification, performance tests, periodic reports, and maintain records of the occurrence and duration of any startup, shutdown, or malfunction in the operation of an affected facility, or any period during which the monitoring system is inoperative.

Burden Statement: The annual public reporting and recordkeeping burden for this collection of information is estimated to average approximately 58.6 hours per response.

Respondents/Affected Entities: Asphalt processing and roofing manufacturers.

Estimated Number of Respondents: 169.

Frequency of Response: Initially.

Estimated Total Annual Hour Burden: 30,419.

Estimated Total Annual Cost: $6,045,000, which is comprised of annualized capital/startup costs of $200,000 and O&M costs of $5,845,000.

(11) NSPS for Portland Cement Plants (40 CFR Part 60, Subpart F), EPA-HQ-OECA-2007-0032, EPA ICR Number 1051.10, OMB Control Number 2060-0025, expiration date January 31, 2008.

Affected Entities: Entities potentially affected by this action are owners or operators of portland cement plants.

Abstract: The New Source Performance Standards (NSPS) for Portland Cement Plants (40 CFR Part 60, Subpart F) were promulgated on July 25, 1977. The affected entities are subject to the General Provisions of the NSPS at 40 CFR part 60, subpart A, and any changes or additions to the General Provisions specified at 40 CFR part 60, subpart F. Owners/operators of portland cement plants must notify EPA of construction, modification, startups, shut downs, date and results of initial performance test and excess emissions. Semiannual reports are also required.

Burden Statement: The annual public reporting and recordkeeping burden for this collection of information is estimated to average 64 hours per response.

Respondents/Affected Entities: Owners or operators of portland cement plants.

Estimated Number of Respondents: 118.

Frequency of Response: Initially and semiannually.

Estimated Total Annual Hour Burden: 13,806.

Estimated Total Annual Cost: $533,000, which is comprised of annualized capital/startup costs of $37,000 and O&M costs of $496,000.

(12) NESHAP for Epoxy Resin and Non-Nylon Polyamide Production (40 CFR Part 63, Subpart W), Docket ID Number EPA-HQ-OECA-2007-0052, EPA ICR Number 1681.06, OMB Control Number 2060-0290, expiration date February 29, 2008.

Affected Entities: Entities potentially affected by this action are owners or operators of epoxy resin and non-nylon polyamide production which produces polymers and resins from epichlorohydrin and sources which manufacture epichlorohydrin-modified non-nylon polyamide resins.

Abstract: The National Emission Standards for Hazardous Air Pollutants (NESHAP) for Epoxy Resin and Non-Nylon Polyamide Production (40 CFR Part 63, Subpart W) were proposed on May 16, 1994, and promulgated on March 8, 1995.

The affected entities are subject to the General Provisions of NESHAP at 40 CFR part 63, subpart A, and any changes, or additions to the General Provisions specified at 40 CFR part 63, subpart W.

Owners or operators of the affected facilities must submit a one-time-only of any physical or operational changes, initial performance tests, and periodic reports and results. Owners or operators are also required to maintain records of the occurrence and duration of any startup, shutdown, or malfunction in the operation of an affected facility, or any period during which the monitoring system is inoperative. Reports are also required semiannually.

Burden Statement: The annual public reporting and recordkeeping burden for this collection of information is estimated to average approximately 214 hours per response.

Respondents/Affected Entities: Epoxy resin and non-nylon polyamide production plants.

Estimated Number of Respondents: 7.

Frequency of Response: Initially, quarterly and semiannually.

Estimated Total Annual Hour Burden: 3,853.

Estimated Total Annual Cost: $9,000, which is comprised of no annualized capital/startup costs and O&M costs of $9,000.

(13) NESHAP for Primary Aluminum Reduction Plants (40 CFR Part 63, Subpart L); Docket ID Number EPA-HQ-OECA-2007-0127; EPA ICR Number 1767.05; OMB Control Number 2060-0360; expiration date February 29, 2008.

Affected Entities: Owner or operators of primary aluminum reduction plants that are major sources of HAP emissions.

Abstract: The National Emission Standards for Hazardous Air Pollutants (NESHAP) for primary aluminum reduction plants were proposed on September 26, 1996 and promulgated on October 7, 1997. These standards apply to the owners or operators of new or existing potlines, paste production plants, or anode bake furnaces associated with primary aluminum production and located at a major source, and for each new pitch storage tank associated with a primary aluminum reduction plant.

The affected entities are subject to the General Provisions of the New Source Performance Standards (NSPS) at 40 CFR part 63, subpart A and any changes, or additions to the General Provisions specified at 40 CFR part 63, subpart L. Owners or operators of the affected facilities must submit initial notification, performance tests, and periodic reports and results. Owners or operators are also required to maintain records of the occurrence and duration of any startup, shutdown, or malfunction in the operation of an affected facility, or any period during which the monitoring system is inoperative. Semiannual reports are also required.

Burden Statement: The annual public reporting and recordkeeping burden for this collection of information is estimated to average 2,189 (rounded) hours per response.

Respondents/Affected Entities: Owner or operators of new or existing primary aluminum reduction plants.

Estimated Number of Respondents: 23.

Frequency of Response: Initially, on occasion, quarterly and semiannually.

Estimated Total Annual Hour Burden: 122,607 hours.

Estimated Total Annual Cost: $114,000 which is comprised of only O&M costs. There are no capital/startup costs.

(14) NSPS for Polymeric Coating of Supporting Substrates Facilities (40 CFR Part 60, Subpart VVV), EPA-HQ-OECA-2007-0033, EPA ICR Number 1284.08, OMB Control Number 2060-0181, expiration date March 31, 2008.

Affected Entities: Entities potentially affected by this action are owners or operators of polymeric coating plants.

Abstract: The New Source Performance Standard (NSPS) polymeric coating of supporting substrates facilities at 40 CFR part 60, subpart VVV were promulgated on September 15, 1987, and revised most recently on September 19, 1989. The affected sources are subject to the General Provisions of the NSPS at 40 CFR part 60, subpart A, and any changes, or additions to the General Provisions specified at 40 CFR part 60, subpart VVV. Sources must: maintain records of startups, shutdowns, malfunctions; periods where the continuous monitoring system is inoperative; all measurements including performance tests; operating parameters of monitoring device results for catalytic or thermal incinerators, carbon adsorption system, condensation system, vapor capture system and/or total enclosure; monitor the annual use of volatile organic compounds (VOC); and make semiannual estimates of projected VOC use, if affected facility uses less than 95 Mg/year of volatile organic compounds or is subject to provisions specified at section 60.742(c)(3).

Burden Statement: The annual public reporting and recordkeeping burden for this collection of information is estimated to average 83 hours per response.

Respondents/Affected Entities: Owners or operators of polymeric coating plants.

Estimated Number of Respondents: 53.

Frequency of Response: Initially, on occasion, monthly, quarterly, semiannually and annually.

Estimated Total Annual Hour Burden: 12,623.

Estimated Total Annual Cost: $606,000, which is comprised of annualized capital/startup costs of $49,000 and O&M costs of $557,000.

(15) NESHAP for Beryllium Rocket Motor Firing (40 CFR Part 61, Subpart D), Docket ID Number EPA-HQ-OECA-2007-0053, EPA ICR Number 1125.05, OMB Control Number 2060-0394, expiration date April 30, 2008.

Affected Entities: Entities potentially affected by this action are owners or operators of existing and new beryllium rocket motor firing facilities that test rocket motors that use beryllium propellant.

Abstract: The National Emission Standards for Hazardous Air Pollutants (NESHAP) for Beryllium Rocket Motor Firing (40 CFR Part 61, Subpart D) were promulgated on April 6, 1973 and amended on November 7, 1985.

The affected entities are subject to the General Provisions of NESHAP at 40 CFR part 61, subpart A, and any changes, or additions to the General Provisions specified at 40 CFR part 61, subpart D.

Owners or operators of the affected facilities must submit initial notification, performance tests, and periodic reports and results. Owners or operators are also required to maintain records of the occurrence and duration of any startup, shutdown, or malfunction in the operation of an affected facility, or any period during which the monitoring system is inoperative.

Burden Statement: The annual public reporting and recordkeeping burden for this collection of information is estimated to average approximately 8 hours per response.

Respondents/Affected Entities: Beryllium rocket motor firing facilities.

Estimated Number of Respondents: 1.

Frequency of Response: On occasion.

Estimated Total Annual Hour Burden: 8.

Estimated Total Annual Cost: There are no capital/startup or O&M costs associated with this ICR.

(16) NESHAP for Vinyl Chloride (40 CFR Part 61, Subpart F), Docket ID Number EPA-HQ-OECA-2007-0054, EPA ICR Number 0186.11, OMB Control Number 2060-0071, expiration date April 30, 2008.

Affected Entities: Entities potentially affected by this action are owners or operators of vinyl chloride. These standards apply to exhaust gases and oxychlorination vents at ethylene dichloride (EDC) plants; exhaust gases at vinyl chloride monomer (VCM) plants, and exhaust gases, reactor opening losses, manual vent valves, and stripping residuals at polyvinyl chloride (PVC) plants.

Abstract: The National Emission Standards for Hazardous Air Pollutants (NESHAP) for Vinyl Chloride (40 CFR Part 61, Subpart F) were proposed on December 24, 1975 and promulgated on October 21, 1976.

The affected entities are subject to the General Provisions of NESHAP at 40 CFR part 61, subpart A, and any changes, or additions to the General Provisions specified at 40 CFR part 61, subpart F.

Owners or operators of the affected facilities must submit initial notification, performance tests, and periodic reports and results. Owners or operators are also required to maintain records of the occurrence and duration of any startup, shutdown, or malfunction in the operation of an affected facility, or any period during which the monitoring system is inoperative.

Burden Statement: The annual public reporting and recordkeeping burden for this collection of information is estimated to average approximately 60 hours per response.

Respondents/Affected Entities: Vinyl chloride manufacturers.

Estimated Number of Respondents: 28.

Frequency of Response: Initially, on occasion and quarterly.

Estimated Total Annual Hour Burden: 11,825.

Estimated Total Annual Cost: $1,260,000, which is comprised of no annualized capital/startup costs and O&M costs of $1,260,000.

(17) NESHAP for Pulp and Paper Production (40 CFR Part 63, Subpart S), EPA-HQ-OECA-2007-0034, EPA ICR Number 1657.06, OMB Control Number 2060-0387, expiration date April 30, 2008.

Affected Entities: Entities potentially affected by this action are owners or operators of pulp and paper mills.

Abstract: The National Emission Standards for Hazardous Air Pollutants (NESHAP) for pulp and paper production were promulgated on April 15, 1998. The affected sources are subject to the General Provisions of the NESHAP at 40 CFR part 63, subpart A, and any changes or additions to the General Provisions specified at 40 CFR part 63, subpart S.

Pulp mill owners/operators are required to submit initial notifications, maintain records of the occurrence and duration of any startup, shutdown, or malfunction in the operation of an affected source, or any period during which the emission monitoring system is inoperative. Respondents are required to monitor and keep records of specific operating parameters for each control device and to perform and document periodic inspections of the closed vent and wastewater conveyance systems.

All respondents must submit semiannual reports of the monitored parameters. They must also submit an additional monitoring report during each quarter in which monitored parameters were outside the ranges established in the standard or during initial performance tests.

Burden Statement: The annual public reporting and recordkeeping burden for this collection of information is estimated to average 104 hours per response.

Respondents/Affected Entities: Owners or operators of pulp and paper mills.

Estimated Number of Respondents: 137.

Frequency of Response: Initially, quarterly and semiannually.

Estimated Total Annual Hour Burden: 42,444.

Estimated Total Annual Cost: $377,000, which is comprised of no annualized capital/startup costs and O&M costs of $337,000.

(18) NESHAP for Chemical Recovery Combustion Sources at Kraft, Soda, Sulfite, and Stand-Alone Semichemical Pulp Mills (40 CFR Part 63, Subpart MM), EPA-HQ-OECA-2007-0035, ICR Number 1805.05, OMB Control Number 2060-0377, expiration date April 30, 2008.

Affected Entities: Entities potentially affected by this action are owners or operators of chemical recovery combustion sources at kraft, soda, sulfite, and stand-alone semichemical pulp mills.

Abstract: The National Emission Standards for Hazardous Air Pollutants (NESHAP) for chemical recovery combustion sources at kraft, soda, sulfite, and stand-alone semichemical pulp mills at 40 CFR part 63, subpart MM were promulgated on January 12, 2001. The subject sources are subject to the General Provisions of the NESHAP at 40 CFR part 63, subpart A, and any changes or additions to the General Provisions specified at 40 CFR part 63, subpart MM. These requirements include initial notifications; notifications of performance tests; notifications of performance evaluations; notifications of compliance status, including the results of performance tests; startup, shutdown, and malfunction reports; and semiannual compliance reports.

Burden Statement: The annual public reporting and recordkeeping burden for this collection of information is estimated to average 475 hours per response.

Respondents/Affected Entities: Owners or operators of chemical recovery combustion sources at kraft, soda, sulfite, and stand-alone semichemical pulp mills.

Estimated Number of Respondents: 130.

Frequency of Response: Initially, on occasion, quarterly and semiannually.

Estimated Total Annual Hour Burden: 150,043.

Estimated Total Annual Cost: $987,000, which is comprised of annualized capital/startup costs of $123,000 and O&M costs of $864,000.

(19) Standards of Performance for New and Existing Stationary Sources: Utility Steam Generating Units (40 CFR Part 60, Subparts Da and HHHH), Docket ID Number EPA-HQ-OECA-2007-0055, EPA ICR Number 2137.03, OMB Control Number 2060-0567, expiration date April 30, 2008.

Affected Entities: Entities potentially affected by this action are owners or operators of electric utility steam generating units. These standards apply to existing and new coal-fired electric utility steam generating units capable of firing more than 73 megawatts (MW) (250 million Btu/hour) heat input including industrial cogeneration facilities that sell more than 25 MW of electrical output and more than one-third of their potential output capacity to any utility power distribution system.

Abstract: The Standards of Performance for New and Existing Stationary Sources: Utility Steam Generating Units (40 CFR Part 60, Subparts Da and HHHH) were proposed on December 20, 2000, and promulgated on May 18, 2005.

The affected entities are subject to the General Provisions of NESHAP at 40 CFR part 60, subpart A, and any changes, or addition to the General Provisions specified at 40 CFR part 60, subparts Da and HHHH.

Owners or operators of the affected facilities must submit initial notification, performance tests, and periodic reports and results. Owners or operators are also required to maintain records of the occurrence and duration of any startup, shutdown, or malfunction in the operation of an affected facility, or any period during which the monitoring system is inoperative.

Burden Statement: The annual public reporting and recordkeeping burden for this collection of information is estimated to average approximately 632 hours per response.

Respondents/Affected Entities: Electric utility steam generating units.

Estimated Number of Respondents: 1,125.

Frequency of Response: Semiannually, quarterly, annually, daily, and on occasion.

Estimated Total Annual Hour Burden: 710,993.

Estimated Total Annual Cost: $85,002, which is comprised of annualized capital/startup costs of $11,870 and O&M costs of $73,132.

(20) NESHAP for Petroleum Refineries (40 CFR Part 63, Subpart CC); Docket ID Number EPA-HQ-OECA-2007-0126; EPA ICR Number 1692.06; OMB Control Number 2060-0340; expiration date April 30, 2008.

Affected Entities: Petroleum refineries.

Abstract: The National Emission Standards for Hazardous Air Pollutants for petroleum refineries were proposed on July 15, 1994, and promulgated on August 18, 1995. These regulations apply to the following refining process units and emission points located at refineries that are major sources of HAP emissions: miscellaneous process vents, storage vessels, wastewater streams and treatment operations, equipment leaks, gasoline loading racks, and marine vessel loading operations. These regulations also apply to storage vessels and equipment leaks associated with bulk gasoline terminals or pipeline breakout stations that are related to an affected petroleum refinery. New facilities include those that commenced construction or reconstruction after the date of proposal.

The affected entities are subject to the General Provisions of the National Emission Standards for Hazardous Air Pollutants for (NESHAP) at 40 CFR part 63, subpart A and any changes, or additions to the General Provisions specified at 40 CFR part 63, subpart CC. In general, all NESHAP standards require initial notifications, performance tests, and periodic reports. In addition, respondents are required to comply with applicable recordkeeping and reporting requirements under other rules including: 1) equipment leaks requirements in either 40 CFR part 61, subpart VV or 40 CFR part 63, subpart H (i.e., an initial report and semiannual summary report of leak detection and repair); 2) wastewater operations requirements in 40 CFR part 61, subpart FF; gasoline loading racks requirements in 40 CFR part 63, subpart R; and marine tank vessel loading operations requirements in 40 CFR part 63, subpart Y.

Burden Statement: The annual public reporting and recordkeeping burden for this collection of information is estimated to average 839 (rounded) hours per response.

Respondents/Affected Entities: Owner or operators of new or existing petroleum refineries.

Estimated Number of Respondents: 134.

Frequency of Response: Initially, on occasion, quarterly, semiannually and annually.

Estimated Total Annual Hour Burden: 410,054 hours.

Estimated Total Annual Cost: There are no annual capital/startup or O&M costs associated with this ICR.

(21) NSPS for Municipal Waste Combustors (40 CFR Part 60, Subparts Ea and Eb), Docket ID Number EPA-HQ-OECA-2007-0056, EPA ICR Number 1506.11, OMB Control Number 2060-0210, expiration date April 30, 2008.

Affected Entities: Entities potentially affected by this action are owners or operators of municipal waste combustors. Both of these standards apply to municipal waste combustors with unit capacities greater than 225 megagrams per day.

Abstract: The New Source Performance Standards (NSPS) for Municipal Waste Combustors (40 CFR Part 60, Subparts Ea and Eb) were proposed on December 20, 1980, and September 20, 1994 (respectively), and promulgated on February 11, 1991, and December 19, 1995 (respectively).

The affected entities are subject to the General Provisions of NSPS at 40 CFR part 60, subpart A, and any changes, or additions to the General Provisions specified at 40 CFR part 60, Subparts Ea and Eb.

Owners or operators of the affected facilities must make an initial notification, performance tests, periodic reports, and maintain records of the occurrence and duration of any startup, shutdown, or malfunction in the operation of an affected facility, or any period during which the monitoring system is inoperative.

Burden Statement: The annual public reporting and recordkeeping burden for this collection of information is estimated to average approximately 198 hours per response.

Respondents/Affected Entities: Municipal waste combustors.

Estimated Number of Respondents: 12.

Frequency of Response: Initially, quarterly, semiannually, annually.

Estimated Total Annual Hour Burden: 20,421.

Estimated Total Annual Cost: $159,000, which is comprised of annualized capital/startup costs of $60,000 and O&M costs of $99,000.

(22) NESHAP for Pesticide Active Ingredient Production (40 CFR Part 63, Subpart MMM), Docket ID Number EPA-HQ-OECA-2007-0057, EPA ICR Number 1807.04, OMB Control Number 2060-0370, expiration date June 30, 2008.

Affected Entities: Entities potentially affected by this action are owners or operators of new and existing pesticide active ingredient facilities.

Abstract: The National Emission Standards for Hazardous Air Pollutants (NESHAP) for Pesticide Active Ingredient Production (40 CFR Part 63, Subpart MMM) were promulgated on June 23, 1999.

The affected entities are subject to the General Provisions of NESHAP at 40 CFR part 63, subpart A, and any changes, or additions to the General Provisions specified at 40 CFR part 63, subpart MMM.

Owners or operators of the affected facilities must submit initial notification, performance tests, and periodic reports and results. Owners or operators are also required to maintain records of the occurrence and duration of any startup, shutdown, or malfunction in the operation of an affected facility, or any period during which the monitoring system is inoperative. Semiannual reports are also required.

Burden Statement: The annual public reporting and recordkeeping burden for this collection of information is estimated to average approximately 60 hours per response.

Respondents/Affected Entities: Pesticide active ingredient production facilities.

Estimated Number of Respondents: 88.

Frequency of Response: Initially, quarterly, and semiannually.

Estimated Total Annual Hour Burden: 24,164.

Estimated Total Annual Cost: $353,000, which is comprised of annualized capital/startup costs of $236,000 and O&M costs of $117,000.

(23) NESHAP for Marine Tank Vessel Loading Operations (40 CFR Part 63, Subpart Y), Docket ID Number EPA-HQ-OECA-2007-0058, EPA ICR Number 1679.06, OMB Control Number 2060-0289, expiration date July 31, 2008.

Affected Entities: Entities potentially affected by this action are owners or operators of new and existing facilities that load marine tank vessels with petroleum or gasoline and have aggregate of 10 tons or more of each individual hazardous air pollutant or 25 tons or more combined.

Abstract: The National Emission Standards for Hazardous Air Pollutants (NESHAP) for Marine Tank Vessel Loading Operations (40 CFR Part 63, Subpart Y) were proposed on May 13, 1994 and promulgated on September 19, 1995.

The affected entities are subject to the General Provisions of NESHAP at 40 CFR part 63, subpart A, and any changes, or additions to the General Provisions specified at 40 CFR part 63, subpart Y.

Owners or operators of the affected facilities must submit initial notification, performance tests, and periodic reports and results. Owners or operators are also required to maintain records of the occurrence and duration of any startup, shutdown, or malfunction in the operation of an affected facility, or any period during which the monitoring system is inoperative. Semiannual reports are also required.

Burden Statement: The annual public reporting and recordkeeping burden for this collection of information is estimated to average approximately 12 hours per response.

Respondents/Affected Entities: Marine tank vessel loading operations.

Estimated Number of Respondents: 804.

Frequency of Response: On occasion, semiannually and annually.

Estimated Total Annual Hour Burden: 9,872.

Estimated Total Annual Cost: There are no capital/startup or O&M costs associated with this ICR.

(24) NESHAP for Solvent Extraction for Vegetable Oil Production (40 CFR Part 63, Subpart GGGG), Docket ID Number EPA-HQ-OECA-2007-0059, EPA ICR Number 1947.04, OMB Control Number 2060-0471, expiration date July 31, 2008.

Affected Entities: Entities potentially affected by this action are owners or operators of new and existing vegetable oil production process, which is defined as a group of continuous process equipment used to remove oil from oilseeds through direct contact with an organic solvent such as n-hexane.

Abstract: The National Emission Standards for Hazardous Air Pollutants (NESHAP) for Solvent Extraction for Vegetable Oil Production (40 CFR Part 63, Subpart GGGG) were proposed on May 26, 2000, and promulgated on April 21, 2001.

The affected entities are subject to the General Provisions of NESHAP at 40 CFR part 63, subpart A, and any changes, or additions to the General Provisions specified at 40 CFR part 63, subpart GGGG.

Owners or operators of the affected facilities must submit initial notification, performance tests, and periodic reports and results. Owners or operators are also required to maintain records of the occurrence and duration of any startup, shutdown, or malfunction in the operation of an affected facility, or any period during which the monitoring system is inoperative. Semiannual reports are also required.

Burden Statement: The annual public reporting and recordkeeping burden for this collection of information is estimated to average approximately 185 hours per response.

Respondents/Affected Entities: Solvent extraction for vegetable oil production facilities.

Estimated Number of Respondents: 101.

Frequency of Response: Annually, initially, and on occasion.

Estimated Total Annual Hour Burden: 39,385.

Estimated Total Annual Cost: There are no capital/startup or O&M costs associated with this ICR.

(25) NESHAP for Engine Test Cells/Stands (40 CFR Part 63, Subpart PPPPP), Docket ID Number EPA-HQ-OECA-2007-0060, EPA ICR Number 2066.04, OMB Control Number 2060-0483, expiration date July 31, 2008.

Affected Entities: Entities potentially affected by this action are owners or operators of new or reconstructed engine test cells/stands located at major source facilities that are being used for testing internal combustion engines with a rated power of 25 horsepower or more.

Abstract: The National Emission Standards for Hazardous Air Pollutants (NESHAP) for Engine Test Cells/Stands (40 CFR Part 63, Subpart PPPPP) were proposed on May 14, 2002, and promulgated on May 27, 2003.

The affected entities are subject to the General Provisions of NESHAP at 40 CFR part 63, subpart A, and any changes, or additions to the General Provisions specified at 40 CFR part 63, subpart PPPPP.

Owners or operators of the affected facilities must submit initial notification, performance tests, and periodic reports and results. Owners or operators are also required to maintain records of the occurrence and duration of any startup, shutdown, or malfunction in the operation of an affected facility, or any period during which the monitoring system is inoperative. Semiannual reports are also required.

Burden Statement: The annual public reporting and recordkeeping burden for this collection of information is estimated to average approximately 76 hours per response.

Respondents/Affected Entities: Engine test cells/stands.

Estimated Number of Respondents: 18.

Frequency of Response: Initially, semiannually and annually.

Estimated Total Annual Hour Burden: 3,043.

Estimated Total Annual Cost: $5,400, which is comprised of no annualized capital/startup costs and O&M costs of $5,400.

(26) NESHAP for Friction Materials Manufacturing (40 CFR Part 63, Subpart QQQQQ), Docket ID Number EPA-HQ-OECA-2007-0061, EPA ICR Number 2025.04, OMB Control Number 2060-0481, expiration date July 31, 2008.

Affected Entities: Entities potentially affected by this action are owners or operators of new, reconstructed or existing friction materials manufacturing. Friction materials is subsequently used to manufacture friction products that include, but are not limited to, disc brake pucks, disc brake pads, brake linings, brake shoes, brake segments, brake blocks, brake discs, clutch facings, and clutches.

Abstract: The National Emission Standards for Hazardous Air Pollutants (NESHAP) for Friction Materials Manufacturing (40 CFR Part 63, Subpart QQQQQ) were proposed on October 4, 2001, and promulgated on October 18, 2002.

The affected entities are subject to the General Provisions of NESHAP at 40 CFR part 63, subpart A, and any changes, or additions to the General Provisions specified at 40 CFR part 63, subpart QQQQQ.

Owners or operators of the affected facilities must submit initial notification, performance tests, and periodic reports and results. Owners or operators are also required to maintain records of the occurrence and duration of any startup, shutdown, or malfunction in the operation of an affected facility, or any period during which the monitoring system is inoperative. Semiannual reports are also required.

Burden Statement: The annual public reporting and recordkeeping burden for this collection of information is estimated to average approximately 162 hours per response.

Respondents/Affected Entities: Friction materials manufacturing.

Estimated Number of Respondents: 4.

Frequency of Response: Initially, on occasion, semiannually and annually.

Estimated Total Annual Hour Burden: 1,296.

Estimated Total Annual Cost: $1,000, which is comprised of no annualized capital/startup costs and O&M costs of $1,000.

(27) NESHAP for Cellulose Products Manufacturing (40 CFR Part 63, Subpart UUUU), Docket ID Number EPA-HQ-OECA-2007-0062, EPA ICR Number 1974.05, OMB Control Number 2060-0488, expiration date July 31, 2008.

Affected Entities: Entities potentially affected by this action are owners or operators of a cellulose product manufacturing operation that is a major source of hazardous air pollutant, which includes the miscellaneous viscose processes source category that consists of, cellulose food casing, rayon, cellulosic sponge, and cellophane operations, and the cellulose ethers productions source category which covers all of the cellulose ether operations.

Abstract: The National Emission Standards for Hazardous Air Pollutants (NESHAP) for Cellulose Products Manufacturing (40 CFR Part 63, Subpart UUUU) were proposed on August 28, 2000 and promulgated on June 11, 2002.

The affected entities are subject to the General Provisions of NESHAP at 40 CFR part 63, subpart A, and any changes, or additions to the General Provisions specified at 40 CFR part 63, subpart UUUU.

Owners or operators of the affected facilities must submit initial notification, performance tests, and periodic reports and results. Owners or operators are also required to maintain records of the occurrence and duration of any startup, shutdown, or malfunction in the operation of an affected facility, or any period during which the monitoring system is inoperative. Semiannual reports are also required.

Burden Statement: The annual public reporting and recordkeeping burden for this collection of information is estimated to average approximately 141 hours per response.

Respondents/Affected Entities: Cellulose Products Manufacturing.

Estimated Number of Respondents: 13.

Frequency of Response: On occasion, weekly, and semiannually.

Estimated Total Annual Hour Burden: 12,088.

Estimated Total Annual Cost: $1,000, which is comprised of no annualized capital/startup costs and O&M costs of $1,000.

(28) NESHAP for Ferroalloys Production: Ferromanganese and Silconmanganese (40 CFR Part 63, Subpart XXX); Docket ID Number EPA-HQ-OECA-2007-0128; EPA ICR Number 1831.04; OMB Control Number 2060-0391; expiration date September 30, 2008.

Affected Entities: Owners or operators of ferroalloy production facilities that manufacture ferromanganese and siliconmanganese.

Abstract: The national emission standards for hazardous air pollutants (NESHAP) for ferroalloy production facilities were proposed on August 4, 1998, promulgated on May 20, 1999, and amended most recently on March 22, 2001. The rule applies to affected facilities at ferroalloy production plants including: submerged arc furnaces; metal oxygen refining (MOR) process; crushing and screening operations; and fugitive dust sources.

The affected entities are subject to the General Provisions of the National Emission Standards for Hazardous Air Pollutants at 40 CFR part 63, subpart A and any changes, or additions to the General Provisions specified at 40 CFR part 63, subpart XXX Owners or operators of the affected facilities must submit initial notification, performance tests, and periodic reports and results. Owners or operators are also required to maintain records of the occurrence and duration of any startup, shutdown, or malfunction in the operation of an affected facility, or any period during which the monitoring system is inoperative. Semiannual reports are also required.

Burden Statement: The annual public reporting and recordkeeping burden for this collection of information is estimated to average 83 (rounded) hours per response.

Respondents/Affected Entities: Ferroalloy production facilities that manufacture ferromanganese and siliconmanganese.

Estimated Number of Respondents: 1.

Frequency of Response: Initial, quarterly, semiannual and annually.

Estimated Total Annual Hour Burden: 584 hours.

Estimated Total Annual Cost: There are no annualized capital/startup costs or O&M costs associated with this ICR.

(29) NESHAP for Primary Copper Smelters (40 CFR Part 63, Subpart QQQ), Docket ID Number EPA-HQ-OECA-2007-0063, EPA ICR Number 1850.05, OMB Control Number 2060-0476, expiration date September 30, 2008.

Affected Entities: Entities potentially affected by this action are owners or operators of any existing, reconstructed, or new primary copper smelters. The affected sources are each copper concentrate dryer, each smelting furnace, each slag cleaning vessel, each copper converter department, and the entire group of fugitive emission sources.

Abstract: The National Emission Standards for Hazardous Air Pollutants (NESHAP) for Primary Copper Smelters (40 CFR Part 63, Subpart QQQ) were proposed on April 20, 1998 and promulgated on June 12, 2002.

The affected entities are subject to the General Provisions of NESHAP at 40 CFR part 63, subpart QQQ, and any changes, or additions to the General Provisions specified at 40 CFR part 63, subpart QQQ.

Owners or operators of the affected facilities must submit initial notification, performance tests, and periodic reports and results. Owners or operators are also required to maintain records of the occurrence and duration of any startup, shutdown, or malfunction in the operation of an affected facility, or any period during which the monitoring system is inoperative. Semiannual reports are also required.

Burden Statement: The annual public reporting and recordkeeping burden for this collection of information is estimated to average approximately 196 hours per response.

Respondents/Affected Entities: Primary copper smelters.

Estimated Number of Respondents: 3.

Frequency of Response: On occasion, initially, monthly, semiannually and annually.

Estimated Total Annual Hour Burden: 8,837.

Estimated Total Annual Cost: $8,000, which is comprised of no annualized capital/startup costs and O&M costs of $8,000.

(30) NESHAP for Leather Finishing Operations (40 CFR Part 63, Subpart TTTT), Docket ID Number EPA-HQ-OECA-2007-0064, EPA ICR Number 1985.04, OMB Control Number 2060-0478, expiration date September 30, 2008.

Affected Entities: Entities potentially affected by this action are owners or operators of any existing, reconstructed, or new leather finishing operation. A leather finishing operation is a single process or group of processes used to adjust and improve the physical and aesthetic characteristics of the leather surface through multistage application of a coating comprising of dyes, pigments, film-forming materials and performance modifiers dissolved or suspended in liquid carriers.

Abstract: The National Emission Standards for Hazardous Air Pollutants (NESHAP) for Leather Finishing Operations (40 CFR Part 63, Subpart TTTT) were proposed on October 2, 2000, and promulgated on February 27, 2002.

The affected entities are subject to the General Provisions of NESHAP at 40 CFR part 63, subpart A, and any changes, or additions to the General Provisions specified at 40 CFR part 63, subpart TTTT.

Owners or operators of the affected facilities must submit initial notification, performance tests, and periodic reports and results. Owners or operators are also required to maintain records of the occurrence and duration of any startup, shutdown, or malfunction in the operation of an affected facility, or any period during which the monitoring system is inoperative.

Burden Statement: The annual public reporting and recordkeeping burden for this collection of information is estimated to average approximately 33 hours per response.

Respondents/Affected Entities: Leather finishing operations.

Estimated Number of Respondents: 10.

Frequency of Response: Initially, on occasion and annually.

Estimated Total Annual Hour Burden: 334.

Estimated Total Annual Cost: There are no capital/startup or O&M costs associated with this ICR.

(31) NESHAP for Metal Coil Surface Coating Plants (40 CFR Part 63, Subpart SSSS), Docket ID Number EPA-HQ-OECA-2007-0065, EPA ICR Number 1957.05, OMB Control Number 2060-0487, expiration date September 30, 2008.

Affected Entities: Entities potentially affected by this action are owners or operators of any existing, reconstructed, or new metal coil coating facility. The coil coating line is a process and the collection of equipment used to apply an organic coating to the surface of a metal coil that is less than 0.15 millimeters (0.006 inches) thick, and the coating line is controlled by a common control device that also receives organic hazardous air pollutant (HAP) emissions from a coil coating line that is subject to the requirements of this subpart.

Abstract: The National Emission Standards for Hazardous Air Pollutants (NESHAP) for Metal Coil Surface Coating Plants (40 CFR Part 63, Subpart SSSS) were proposed on July 18, 2000, and promulgated on June 10, 2002.

The affected entities are subject to the General Provisions of NESHAP at 40 CFR part 63, subpart A, and any changes, or additions to the General Provisions specified at 40 CFR part 63, subpart SSSS.

Owners or operators of the affected facilities must submit one-time notification, one-time report on compliance status and performance test results. Owners or operators are also required to maintain records of the occurrence and duration of any startup, shutdown, or malfunction in the operation of an affected facility, or any period during which the monitoring system is inoperative. Semiannual reports are also required.

Burden Statement: The annual public reporting and recordkeeping burden for this collection of information is estimated to average approximately 119 hours per response.

Respondents/Affected Entities: Metal coil surface coating plants.

Estimated Number of Respondents: 89.

Frequency of Response: Semiannually, annually, weekly, initially, and on occasion.

Estimated Total Annual Hour Burden: 19,901.

Estimated Total Annual Cost: $4,000, which is comprised of no annualized capital/startup costs and O&M costs of $4,000.

EPA will consider any comments received and may amend any of the above ICRs, as appropriate. Then the final ICR packages will be submitted to OMB for review and approval pursuant to 5 CFR 1320.12. At that time, EPA will issue one or more Federal Register notices pursuant to 5 CFR 1320.5(a)(1)(iv) to announce the submission of the ICR(s) to OMB and the opportunity to submit additional comments to OMB. If you have any questions about any of the above ICRs or the approval process, please contact the person listed under FOR FURTHER INFORMATION CONTACT.

Dated: February 23, 2007.
Lisa C. Lund,
Acting Director, Office of Compliance.

[FR Doc. E7-4288 Filed 3-8-07; 8:45 am]

BILLING CODE 6560-50-P